DEPARTMENT OF TRANSPORTATION

Office of the Secretary

Aviation Proceedings, Agreements Filed During the Week Ending October 6, 2000

The following Agreements were filed with the Department of Transportation under the provisions of 49 U.S.C. 412 and 414. Answers may be filed within 21 days after the filing of the application.

Docket Number: OST-2000-8065.

Date Filed: October 4, 2000.

Parties: Members of the International Air Transport Association.

Subject:

CTC COMP 0285 dated 26 May 2000

Expedited Resolutions 002nn, 015aa

CTC COMP 0305 dated 1 September 2000—technical correction

Intended effective date: 1 August 2000.

Docket Number: OST-2000-8066.

Date Filed: October 4, 2000.

Parties: Members of the International Air Transport Association.

Subject:

CTC COMP 0283 dated 26 May 2000

Expedited Composite Resolutions

Intended effective date: 1 August 2000.

Docket Number: OST-2000-8067.

Date Filed: October 4, 2000.

Parties: Members of the International Air Transport Association.

Subject:

CTC COMP 0288 dated 2 June 2000

Worldwide Area Resolutions

(USA/US Territories)

Intended effective date: 1 October 2000.

Docket Number: OST-2000-8075.

Date Filed: October 5, 2000.

Parties: Members of the International Air Transport Association.

Subject:

PTC23/TC123AFR-TC3 0107 dated 3 October 2000

Expedited Africa—TC3 Resolutions r1-r7

Intended effective date 1 November 2000.

Docket Number: OST-2000-8076.

Date Filed: October 5, 2000.

Parties: Members of the International Air Transport Association.

Subject:

PTC23/TC123 EUR-SWP 0046 dated 3 October 2000

PTC23/TC123 EUR-SWP 0047 dated 3 October 2000

Expedited Europe-South West Pacific Resolutions r1-r4

Intended effective date: 15 November 2000 and 1 January 2001.

Dorothy Y. Beard,
Federal Register Liaison.

[FR Doc. 00-28251 Filed 11-02-00; 8:45 am]

BILLING CODE 4910-62-P